DEPARTMENT OF TRANSPORTATION

Federal Aviation Administration

14 CFR Part 39

[Docket No. 2000-CE-43-AD]

RIN 2120-AA64

Airworthiness Directives; AeroSpace Technologies of Australia Pty Ltd Airplanes

AGENCY: Federal Aviation Administration (FAA), DOT.

ACTION: Notice of proposed rulemaking (NPRM).

SUMMARY: The FAA proposes to adopt a new airworthiness directive (AD) for all AeroSpace Technologies of Australia Pty Ltd Model N22B, N22S, and N24A airplanes. This proposed AD would require you to inspect the forward and aft face of the rear fuselage frame for cracks and to repair or modify accordingly. This proposed AD is the result of mandatory continuing airworthiness information issued by the airworthiness authority for Australia. We are issuing this proposed AD to detect and correct cracks in the rear fuselage frame, which could result in failure of the fuselage rear bulkhead and consequent loss of structural integrity.

DATES: We must receive any comments on this proposed AD by February 2, 2004.

ADDRESSES: Use one of the following to submit comments on this proposed AD:

• By mail: FAA, Central Region, Office of the Regional Counsel, Attention: Rules Docket No. 2000-CE-43-AD, 901 Locust, Room 506, Kansas City, Missouri 64106.

• By fax: (816) 329-3771.

• By e-mail: 9-ACE-7-Docket@faa.gov. Comments sent electronically must contain “Docket No. 2000-CE-43-AD” in the subject line. If you send comments electronically as attached electronic files, the files must be formatted in Microsoft Word 97 for Windows or ASCII.

You may get the service information identified in this proposed AD from AeroSpace Technologies of Australia Pty Ltd; 226 Lorimer Street, Port Melbourne Victoria 3207, Australia.

You may view the AD docket at FAA, Central Region, Office of the Regional Counsel, Attention: Rules Docket No. 2000-CE-43-AD, 901 Locust, Room 506, Kansas City, Missouri 64106. Office hours are 8 a.m. to 4 p.m., Monday through Friday, except Federal holidays.

FOR FURTHER INFORMATION CONTACT: Ron Atmur, Senior Aerospace Engineer, Airframe Branch, ANM-120L, FAA, Los Angeles Aircraft Certification Office, 3960 Paramount Boulevard, Lakewood, California 90712-4137; telephone: (562) 627-5224; facsimile: (562) 627-5210.

SUPPLEMENTARY INFORMATION:

Comments Invited

How do I comment on this proposed AD?

We invite you to submit any written relevant data, views, or arguments regarding this proposal. Send your comments to an address listed under ADDRESSES. Include “AD Docket No. 2000-CE-43-AD” in the subject line of your comments. If you want us to acknowledge receipt of your mailed comments, send us a self-addressed, stamped postcard with the docket number written on it. We will date-stamp your postcard and mail it back to you.

Are there any specific portions of this proposed AD I should pay attention to?

We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Discussion

What events have caused this proposed AD?

The Civil Aviation Safety Authority (CASA), which is the airworthiness authority for Australia, recently notified FAA that an unsafe condition may exist on all AeroSpace Technologies of Australia Pty Ltd N22 and N24 series airplanes. The CASA received a number of reports of airplanes with cracks around the rivet heads on the rear bulkhead frame. The cracks could result in failure of the fuselage rear bulkhead and consequent loss of airplane control.

What are the consequences if the condition is not corrected?

We are issuing this proposed AD to detect and correct cracks in the rear fuselage frame, which could result in failure of the fuselage rear bulkhead and consequent loss of airplane control.

Is there service information that applies to this subject?

AeroSpace Technologies of Australia Pty Ltd has issued the Nomad Alert Service Bulletin—53-15, which incorporates the following pages.

Effective pages | Revision level | Date
1-31 (reprint of entire service bulletin) | 2 | October 6, 1997.
1 through 4, 13 through 19, and 23 and 24 | 3 | June 1, 1999.

What are the provisions of this service information?

The service bulletin includes procedures for inspecting the rear fuselage bulkhead of aircraft for cracks and making required repairs and/or modifications.

What action did the CASA take?

The CASA classified this service bulletin as mandatory and issued Australian AD Number AD/GAF-N22/65 amendment 3, dated May 5, 2000, to ensure the continued airworthiness of these airplanes in Australia.

Did the CASA inform the United States per the bilateral airworthiness agreement?

These AeroSpace Technologies of Australia Pty Ltd Model N22B, N22S, and N24A airplanes are manufactured in Australia and are type-certificated for operation in the United States under the provisions of section 21.29 of the Federal Aviation Regulations (14 CFR 21.29) and the applicable bilateral airworthiness agreement.

Under this bilateral airworthiness agreement, the CASA has kept us informed of the situation described above.

FAA's Determination and Requirements of this Proposed AD

What has FAA decided?

We have examined the CASA's findings, reviewed all available information, and determined that AD action is necessary for products of this type design that are certificated for operation in the United States.

Since the unsafe condition described previously is likely to exist or develop on other AeroSpace Technologies of Australia Pty Ltd Models N22B, N22S, and N24A airplanes of the same type design that are registered in the United States, we are proposing AD action to detect and correct cracks in the rear fuselage frame.

What would this proposed AD require?

This proposed AD would require you to incorporate the actions in the previously-referenced service bulletin.

How does the revision to 14 CFR part 39 affect this proposed AD?

On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact?

We estimate that this proposed AD affects 14 airplanes in the U.S. registry.

What would be the cost impact of this proposed AD on owners/operators of the affected airplanes?

We estimate the following costs to accomplish the proposed inspection:

Labor cost | Parts cost | Total cost per airplane | Total cost on U.S. operators
General Visual Inspection—0.5 work hours est. $60 per hour = $30 | No parts needed for inspection | $30 | $420
Detailed Visual Inspection—5 work hours est. $60 per hour = $300 | No parts needed for inspection | $300 | $4,200

We estimate the following costs to accomplish any necessary repairs that would be required based on the results of the proposed inspection. We have no way of determining the number of airplanes that may need these repairs:

Labor cost | Parts cost | Total cost per airplane
Repair—20 work hours est. $60 per hour = $1,200 | $1,000 | $2,200

We estimate the following costs to accomplish the proposed modification:

Labor cost | Parts cost | Total cost per airplane | Total cost on U.S. operators
Modification—24 work hours est. $60 per hour = $1,440 | $500 | $1,940 | $27,160

Regulatory Findings

Would this proposed AD impact various entities?

We have determined that this proposed AD would not have federalism implications under Executive Order 13132. This proposed AD would not have a substantial direct effect on the States, on the relationship between the national Government and the States, or on the distribution of power and responsibilities among the various levels of government.

Would this proposed AD involve a significant rule or regulatory action?

For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket No. 2000-CE-43-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

AeroSpace Technologies of Australia Pty Ltd: Docket No. 2000-CE-43-AD

When Is the Last Date I Can Submit Comments on This Proposed AD?

(a) We must receive comments on this proposed airworthiness directive (AD) by February 2, 2004.

What Other ADs Are Affected By This Action?

(b) None.

What Airplanes Are Affected By This AD?

(c) This AD affects the following airplane models and line sequence numbers (serial numbers) that are certificated in any category:

Models | Line sequence numbers
(1) N22B and N22S | 1 through 9, 11 through 29, 31, 33, 35, 37, 39 through 41, 43, 45, 47 through 59, 61, 63, 65 through 70, 82 through 88, 90 through 95, 97, 100, 102 through 114, 116, 118, 125, 126, 131 through 134, 136 through 138, 141, and 143 through 170.
(2) N24A | 10, 30, 32, 34, 36, 38, 42, 44, 46, 60, 62, 64, 71 through 81, 89, 96, 98, 99, 101, 115, 117, 119 through 124, 127 through 130, 135, 139, 140, and 142.

What Is the Unsafe Condition Presented in This AD?

(d) This AD is the result of reports of cracks around the rivet heads on the rear bulkhead frame. The actions specified in this AD are intended to detect and correct cracks in the rear fuselage bulkhead. The cracks could result in failure of the fuselage rear bulkhead and consequent loss of structural integrity.

What Must I Do To Address This Problem?

(e) To address this problem, you must do the following:

Action | Compliance | Procedures
(1) Perform a general visual inspection of the forward face of the rear fuselage frame for cracks | For airplanes that have not been repaired as described in the service bulletin: Inspect within 50 hours time in service (TIS) after the effective date of this AD, if not already inspected. Repetitively inspect every 100 hours TIS thereafter until the modification in paragraph (e)(4) of this AD is done For airplanes that have been repaired as described in the service bulletin: Inspect within 500 hours TIS after repair or next 100 hours TIS after the effective date of this AD, whichever occurs later. Repetitively inspect every 100 hours TIS thereafter until the modification in paragraph (e)(4) of this AD is done | Do the inspection following Section 2.A of Nomad Service Bulletin ANMD-53-15. (See paragraph (f) of this AD for a list of effective pages.)
(2) Perform a detailed visual inspection of the aft face of the rear fuselage frame for cracks | For airplanes that have not been repaired as described in the service bulletin: Inspect within 100 hours TIS after the effective date of this AD. Repetitively inspect every 300 hours TIS thereafter until the modification in paragraph (e)(4) of this AD is done. For airplanes that have been repaired as described in the service bulletin: Inspect within 500 hours TIS after repair or 100 hours TIS after the effective date of this AD, whichever occurs later. Repetitively inspect every 300 hours TIS thereafter or until the modification in paragraph (e)(4) of this AD is done | Do the inspection following Section 2.A of Nomad Service Bulletin ANMD-53-15. (See paragraph (f) of this AD for a list of effective pages.)
(3) Repair any cracks found during any general or detailed inspection required by this AD | If any cracks are found during a general or detailed inspection, the airplane must be repaired before further flight. See compliance for modification below | Do repairs following Section 2.B of Nomad Service Bulletin ANMD-53-15. (See paragraph (f) of this AD for a list of effective pages.)
(4) Modify the airplane by installing AeroSpace Technologies of Australia Modification N806 | For airplanes that have not been repaired before the effective date of this AD: Modification is mandatory within 100 hours TIS or 12 months of the effective date of this AD, whichever occurs sooner Modification terminates the inspection requirements of this AD For aircraft that have been repaired before the effective date of this AD: Modification is mandatory within 3,000 effective hours TIS after incorporation of the repair or 18 months after the effective date of this AD, whichever occurs later. Modification terminates the inspection rerquirements of this AD | Do modification following Section 2.C of Nomad Service Bulletin ANMD-53-15. (See paragraph (f) of this AD for a list of effective pages.)

(f) The Aerospace Technologies of Australia Pty Ltd has issued the Nomad Alert Service Bulletin-53-15, which incorporates the following pages.

Effective pages | Revision level | Date
1-31 (reprint of entire service bulletin) | 2 | October 6, 1997
1 through 4, 13 through 19, and 23 and 24 | 3 | June 1, 1999

May I Request an Alternative Method of Compliance?

(g) You may request a different method of compliance or a different compliance time for this AD by following the procedures in 14 CFR 39.13. Send your request to Ron Atmur, Senior Aerospace Engineer, Airframe Branch, ANM-120L, FAA, Los Angeles Aircraft Certification Office, 3960 Paramount Boulevard, Lakewood, California 90712-4137; telephone: (562) 627-5224; facsimile: (562) 627-5210. For information on any already approved alternative methods of compliance, contact Ron Atmur at the above mentioned address.

May I Get Copies of the Documents Referenced in This AD?

(h) You may get copies of the documents referenced in this AD from AeroSpace Technologies of Australia Pty Ltd, 226 Lorimer Street, Port Melbourne Victoria 3207, Australia. You may view these documents at FAA, Central Region, Office of the Regional Counsel, 901 Locust, Room 506, Kansas City, Missouri 64106.

Is There Other Information That Relates to This Subject?

(i) Australian Airworthiness Directive AD/GAF-N22/65 Amdt 3, dated May 5, 2000, also addresses the subject of this AD.

Issued in Kansas City, Missouri, on December 17, 2003.
Michael Gallagher,
Manager, Small Airplane Directorate, Aircraft Certification Service.

[FR Doc. 03-31847 Filed 12-24-03; 8:45 am]

BILLING CODE 4910-13-P